DEPARTMENT OF ENERGY

Federal Energy Regulatory Commission

[Project No. 14459-000]

EH California Hydro, LLC; Notice of Preliminary Permit Application Accepted for Filing and Soliciting Comments and Motions To Intervene

On October 11, 2012, EH California Hydro, LLC filed an application for a preliminary permit, pursuant to section 4(f) of the Federal Power Act (FPA), proposing to study the feasibility of the Lake Clementine Hydro Project to be located at the U.S, Corps of Engineer's North Fork dam on the North Fork of the American River, near the City of Auburn, Placer County, California. The sole purpose of a preliminary permit, if issued, is to grant the permit holder priority to file a license application during the permit term. A preliminary permit does not authorize the permit holder to perform any land-disturbing activities or otherwise enter upon lands or waters owned by others without the owners' express permission.

To harness the water that now flows over the spillway of the North Fork Dam, the applicant plans to install two hydro generating units, with a total installed capacity of 6.9 megawatts and an estimated annual generation of 27.8 gigawatt-hours. The applicant's plans include building a submerged morning glory intake; a penstock siphon through the dam's left abutment, a silo powerhouse, and a tailrace.

Applicant Contact: Mr. John R. Collins, EH California Hydro, LLC, 5425 Wisconsin Avenue, Suite 600, Chevy Chase, Maryland 20815; phone: (301) 718-4433.

FERC Contact: Jim Fargo at james.fargo@ferc.gov; phone: (202) 502-6095.

Competing Application: This application competes with Project No. 13432-002 filed October 2, 2012. Competing applications had to be filed on or before December 9, 2012.

Deadline for filing comments or motions to intervene: 60 days from the issuance of this notice. Comments and motions to intervene may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail an original and seven copies to: Kimberly D. Bose, Secretary, Federal Energy Regulatory Commission, 888 First Street NE., Washington, DC 20426.

More information about this project, including a copy of the application, can be viewed or printed on the “eLibrary” link of Commission's Web site at http://www.ferc.gov/docs-filing/elibrary.asp. Enter the docket number (P-14459) in the docket number field to access the document. For assistance, contact FERC Online Support.

Dated: January 3, 2013.
Kimberly D. Bose,
Secretary.

[FR Doc. 2013-00261 Filed 1-8-13; 8:45 am]

BILLING CODE 6717-01-P